DEPARTMENT OF HEALTH AND HUMAN SERVICES

Centers for Disease Control and Prevention

[60Day-05-0298]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Home and Hospice Care Survey (NHHCS)—OMB No. 0920-0298—Reinstatement with change—National Center for Health Statistics (NCHS), Centers for Disease Control and Prevention.

Background and Brief Description

The National Home and Hospice Care Survey (NHHCS) is part of the Long-term Care Component of the National Health Care Survey. The NHHCS was conducted in 1992, 1993, 1994, 1996, 1998, and 2000. NHHCS data describe a major segment of the long-term care system and are used extensively for health care research, health planning and public policy. The NHHCS provides data on the characteristics of home health and hospice agencies (e.g., Medicare and Medicaid certification, ownership, membership in chains/nursing home/hospital systems, etc.); patients (e.g., demographics, functional status, services received, diagnoses, sources of payment, etc.); and staff (e.g. staffing mix, turnover, benefits, training, education, etc.). The survey provides detailed information on utilization and staffing patterns, and quality of care variables that are needed to make accurate assessments of the need for and effects of changes in the provision and financing of long-term care for the elderly and disabled. The availability and use of long-term care services are becoming increasingly important issues as the number of elderly increases and persons with disabilities live longer. Equally as important is ensuring the adequacy and availability of the long-term care workforce. The 2007 NHHCS will include a supplemental survey on home health aides. The upcoming survey has been redesigned and expanded to better meet the data needs of researchers and health care planners working to ensure that quality long-term care will be available for the nation's growing senior population. The survey will utilize a computer-assisted personal interviewing (CAPI) system. This computerized system makes it easier for respondents to participate in the survey and accelerates the flow of data, making it possible to release information on a timelier basis.

Users of NHHCS data include: The National Immunization Program and National Center for Injury Prevention and Control, CDC; the Congressional Research Office; the Bureau of Health Professions, Health Resources and Services Administration; the Office of the Assistant Secretary for Planning and Evaluation (ASPE); the Agency for Healthcare Research and Quality; and the National Association for Health Care; the National Hospice and Palliative Care Organization; the American Health Care Association; Centers for Medicare and Medicaid Services (CMS); Bureau of the Census, and the American Association of Retired Persons. Other users of these data include universities, foundations, and a variety of users in the print media and the private sector.

NCHS plans to conduct the next NHHCS in August-December 2007 and during the same months in 2008. These two national surveys follow a pretest of the forms and procedures in August-September 2006. The data collection procedures and content have been extensively revised from the previous NHHCS. The 2007 NHHCS will be based on computer-assisted personal interview (CAPI) methodology. There is no cost to respondents other than their time to participate. The burden tables below include the average annual burden for the pretest and the national survey.

Estimate of Annualized Burden Table
Respondents pretest | Number of respondents | Number of responses/respondent | Average burden/ response (in hours) | Response burden (hours)
Agency Level Data Collection (CAPI) | 17 | 1 | 30/60 | 9
Agency Staff Questionnaire | 17 | 1 | 50/60 | 14
Current/Discharge Patient Sampling | 17 | 1 | 20/60 | 6
Current Home Health Patient Data Collection (CAPI) | 8 | 12 | 25/60 | 40
Hospice Discharge Patient Data Collection (CAPI) | 8 | 12 | 25/60 | 40
Home Health Aide Sampling | 8 | 1 | 15/60 | 2
Home Health Aide Data Collection (CAPI) | 8 | 8 | 30/60 | 32
Total Pretest |  |  |  | 143

Estimate of Annualized Burden Table
Respondents national survey | Number of respondents | Number of responses/respondent | Average burden/ response (in hours) | Response burden (hours)
Agency Level Data Collection (CAPI) | 500 | 1 | 30/60 | 250
Agency Staff Questionnaire | 500 | 1 | 50/60 | 417
Current/Discharge Patient Sampling | 500 | 1 | 20/60 | 167
Current Home Health Patient Data Collection (CAPI) | 250 | 12 | 25/60 | 1,250
Hospice Discharge Patient Data Collection (CAPI) | 250 | 12 | 25/60 | 1,250
Home Health Aide Sampling | 263 | 1 | 15/60 | 66
Home Health Aide Data Collection (CAPI) | 263 | 8 | 30/60 | 1,052
Total National Survey |  |  |  | 4,452

Dated: September 27, 2005.
Betsey Dunaway,
Acting Reports Clearance Officer, Centers for Disease Control and Prevention.

[FR Doc. 05-19681 Filed 9-30-05; 8:45 am]

BILLING CODE 4163-18-P